DEPARTMENT OF EDUCATION

Competitive Preference to Certain Grant Competitions for Fiscal Year 2001 and Subsequent Fiscal Years

AGENCY: Department of Education.

ACTION: Notice of proposed competitive preference for fiscal year 2001 and subsequent fiscal years.

SUMMARY: The Assistant Secretary for the Office of Special Education and Rehabilitative Services proposes adding a competitive preference to certain grant competitions for fiscal year 2001 and subsequent fiscal years. This notice describes the proposed competitive preference, lists the programs to which it would apply, and requests comments on it.

DATES: We must receive your comments on or before October 10, 2000.

ADDRESSES: Address your comments about the proposed competitive preference to Ann Queen, U.S. Department of Education, 400 Maryland Avenue, SW., room 3317, Switzer Building, Washington, DC 20202-2550. If you prefer to send your comments through the Internet, use the following address: ann_queen@ed.gov.

FOR FURTHER INFORMATION CONTACT: Ann Queen. Telephone: (202) 205-8285. If you use a telecommunications device for the deaf (TDD), you may call the Federal Information Relay Service (FIRS) at 1-800-877-8339. You may also request further information through the Internet at the following address: ann_queen@ed.gov.

Individuals with disabilities may obtain this document in an alternate format (e.g., Braille, large print, audiotape, or computer diskette) on request to the contact person listed in the preceding paragraph.

SUPPLEMENTARY INFORMATION:

Invitation To Comment

We invite you to submit comments regarding this proposed competitive preference. We also invite you to assist us in complying with the specific requirements of Executive Order 12866 and its overall requirement of reducing regulatory burden that might result from this proposed competitive preference. Please let us know of any further opportunities that we should take to reduce potential costs or increase potential benefits while preserving the effective and efficient administration of the programs.

During and after the comment period, you may inspect all public comments about this proposed competitive preference in room 3317, Switzer Building, 330 C Street SW., Washington, DC, between the hours of 9 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed competitive preference. If you want to schedule an appointment for this type of aid, you may call (202) 205-8207. If you use a TDD, you may call the Federal Information Relay Service at 1-800-877-8339.

This proposed competitive preference supports the National Education Goal that calls for every American to possess the skills necessary to compete in a global economy.

Note: This notice does not solicit applications. In any year in which the Assistant Secretary chooses to use this competitive preference, we will invite applications through a notice in the Federal Register.

This notice contains proposed language for adding a competitive preference to competitions under 11 programs. Information on how we evaluate applications for each of these programs follows in parentheses:

84.128G—Migrant and Seasonal Farmworkers Program (34 CFR 75.200).

84.128J—Recreational Program (34 CFR 75.200).

84.132—Centers for Independent Living (34 CFR 366.26).

84.133A—Disability and Rehabilitation Research Projects and Centers Program (34 CFR 350.53).

84.133B—Rehabilitation Research and Training Centers (34 CFR 350.53).

84.133D—Knowledge Dissemination and Utilization (34 CFR 350.53).

84.133E—Rehabilitation Engineering Research Centers (34 CFR 350.53).

84.133N—Special Projects and Demonstrations for Spinal Cord Injuries (34 CFR 359.30).

84.234—Projects With Industry (34 CFR 379.30).

84.235—Special Demonstration Programs (34 CFR 75.200).

84.250—Vocational Rehabilitation Service Projects for American Indians with Disabilities (34 CFR 75.200).

Proposed Competitive Preference

Under 34 CFR 75.105(c)(2)(i) the Assistant Secretary proposes to add a competitive preference to applications that are otherwise eligible for funding under the 11 previously mentioned programs.

The maximum score under the selection criteria for each of these programs is 100 points; however, we will also use the following competitive preference so that up to an additional 10 points may be earned by an applicant for a total possible score of 110 points.

Up to 10 points may be earned based on the extent to which an application includes effective strategies for employing and advancing in employment qualified individuals with disabilities as project employees in projects awarded under these programs. In determining the effectiveness of those strategies, we will consider the applicant's prior success, as described in the application, in employing and advancing in employment qualified individuals with disabilities.

Therefore, within this competitive preference, applicants can be awarded up to a total of 10 points in addition to those awarded under the published selection criteria noted previously in parentheses after each program. That is, an applicant meeting this competitive preference could earn a maximum total of 110 points.

We will publish a notice of final competitive preference in the Federal Register after considering responses to this notice and other information available to the Department. This notice does not preclude us from proposing or funding additional priorities, subject to meeting applicable rulemaking requirements.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the preceding sites. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Applicable Program Regulations: 34 CFR parts 350, 359, 366, 371, and 379.

Program Authority: 29 U.S.C. 709(c), 741, 764, 773, 774, 775, 795 and 796f-796f-5;

(Catalog of Federal Domestic Assistance Numbers: 84.128G—Migrant and Seasonal Farmworkers Program; 84.128J—Recreational Programs; 84.132—Centers for Independent Living; 84.133A—Disability and Rehabilitation Research Projects and Centers Program; 84.133B—Rehabilitation Research and Training Centers; 84.133D—Knowledge Dissemination and Utilization; 84.133E—Rehabilitation Engineering Research Centers; 84.133N—Special Projects and Demonstrations for Spinal Cord Injuries; 84.234—Projects With Industry; 84.235—Special Demonstration Programs; and 84.250—Vocational Rehabilitation Service Projects for American Indians with Disabilities.)

Dated: September 1, 2000.
Curtis L. Richards,
Acting Assistant Secretary for Special Education and Rehabilitative Services.

[FR Doc. 00-22953 Filed 9-6-00; 8:45 am]

BILLING CODE 4000-01-U